DEPARTMENT OF COMMERCE

National Institute of Standards and Technology

Information Collection Activities; Submission to the Office of Management and Budget (OMB) for Review and Approval; Comment Request; iEdison System

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 4, 2023 date during a 60-day comment period. This notice allows for an additional 30 days for public comments.

Agency: National Institute of Standards and Technology (NIST), Commerce.

Title: iEdison System.

OMB Control Number 0693-0090.

Form Number(s): None.

Type of Request: Regular, Revision of an Existing Collection.

Number of Respondents: 3,063.

Average Hours per Response:

Invention Records: 1.25 (approximately 5 times per year).

Patent Records: .75 hours (approximately 5 times per year).

Utilization Records: 25 minutes (approximately 30 times per year).

Burden Hours:

Invention Records: 19,144 hours.

Patent Records: 11,486 hours.

Utilization Records: 38,288 hours.

Needs and Uses: The Bayh-Dole Act (35 U.S.C. 18) and its implementing regulations (37 CFR 401) allow for recipients of Federal research funding (Contractors) to retain ownership of inventions developed under Federal funding agreements. In exchange, the government retains certain rights to the invention, including a world-wide right to use by or on behalf of the U.S. government. The law also requires the Contractor to obtain permission for certain actions and fulfill reporting requirements including:

a. Initial reporting of invention.

b. Decision to retain title to invention.

c. Filing of patent protection.

d. Evidence of government support clause within patents.

e. Submission of a license confirming the government's rights.

f. Notice if the Contractor is going to discontinue the pursuit or continuance of patent protection.

g. Information related to the development and utilization of invention.

h. Permission to assign to a third party; and

i. Permission to waive domestic manufacturing requirements.

This information is used for a variety of reasons. It allows the government to identify technologies to which the government has rights to use without additional payment or licensing. This acts as a time and cost-saving mechanism to avoid unnecessary negotiating and payment. It also provides data for calculation of return on investment (ROI) from Federal funding and identifies successful research programs. Thirdly, it allows the government the opportunity to timely protect inventions which the Contractor declines title or discontinues patent protection. Many agencies utilize the iEdison system, managed by NIST, to collect this information. Agencies that do not register with iEdison are required to collect this information independently.

Historically, only NIH and DOE regularly requested that Contractors submit requests for reports on the development and utilization of an invention (utilization reports) within iEdison. However, there has been an increased interest across the government in the impact of federally funded research and resulting inventions as well as compliance with the Bayh-Dole requirements, especially as it relates to domestic manufacturing requirements. As a result, the interagency working group for Bayh-Dole decided that all agencies would begin to request this information, and the questions would be amended and expanded upon so that the agencies could get a clear picture of the commercialization plans for subject inventions, what the licensing landscape looked like, what products were resulting, and where those products were being manufactured.

Another data point of particular interest across government relates to gender, and specifically how gender disparity may be present within the inventing and commercialization space. Collecting gender of the inventors within iEdison provides agencies previously unavailable data that they may use to conduct assessments under administrative policy guidance outlined in Executive Order 13985. NIST does not anticipate that the collection of this data will significantly affect the reporting burden.

Affected Public: Business or other for-profit organizations; Not-for-profit institutions.

Frequency: On occasion.

Respondent's Obligation: Required to obtain benefits.

Legal Authority: The Bayh-Dole Act (35 U.S.C. 18) and its implementing regulations (37 CFR 401); 35 U.S.C. 200-212.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary of Economic Affairs, Commerce Department.

[FR Doc. 2023-18160 Filed 8-23-23; 8:45 am]

BILLING CODE 3510-13-P